ENVIRONMENTAL PROTECTION AGENCY

[EPA-HQ-OPP-2008-0002; FRL-8349-3]

System Research and Application Corporation; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to the System Research and Application Corporation, in accordance with 40 CFR 2.309(c) and 2.308(h)(2). The System Research and Application Corporation, will perform work for OPP under an Interagency Agreement (IAG). Access to this information will enable System Research and Application Corporation, to fulfill the obligations of the IAG.

DATES: The System Research and Application Corporation, will be given access to this information on or before February 11, 2008.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2008-0002. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Contractor Requirements

Under IAG No. EP-W-050-24, which supports the OPP's regulatory efforts, the System Research and Application Corporation, will perform configuration management and monitor tasks for the Office of Information Technology Resources Management Division.

The OPP has determined that the IAG described involves work that is being conducted in connection with FIFRA, in that pesticide chemicals will be the subject of certain evaluations to be made under this IAG. These evaluations may be used in subsequent regulatory decisions under FIFRA.

Some of this information may be entitled to confidential treatment. The information has been submitted to EPA under sections 3, 4, 6, and 7 of FIFRA and under sections 408 and 409 of FFDCA.

In accordance with the requirements of 40 CFR 2.309(c), 2.307(h), and 2.308(h)(2), this IAG with the System Research and Application Corporation, prohibits use of the information for any purpose not specified in the IAG; prohibits disclosure of the information to a third party without prior written approval from the Agency; and requires that each official and employee of the subcontractor sign an agreement to protect the information from unauthorized release and to handle it in accordance with the FIFRA Information Security Manual. In addition, the System Research and Application Corporation, are required to submit for EPA approval a security plan under which any CBI will be secured and protected against unauthorized release or compromise. No information will be provided to the System Research and Application Corporation, until the requirements in this document have been fully satisfied. Records of information provided under this IAG will be maintained by EPA Project Officers for this contract. All information supplied to the System Research and Application Corporation, by EPA for use in connection with this IAG will be returned to EPA when the System Research and Application Corporation, have completed their work.

List of Subjects

Environmental protection, Business and industry, Government contracts, Government property, Security measures.

Dated: January 23, 2008.
Oscar Morales,
Acting Director, Office of Pesticide Programs.

[FR Doc. E8-1796 Filed 1-30-08; 8:45 am]

BILLING CODE 6560-50-S